DEPARTMENT OF HOMELAND SECURITY

U.S. Customs and Border Protection

Accreditation and Approval of Camin Cargo Control, Inc. (New Haven, CT) as a Commercial Gauger and Laboratory

AGENCY: U.S. Customs and Border Protection, Department of Homeland Security.

ACTION: Notice of accreditation and approval of Camin Cargo Control, Inc. (New Haven, CT), as a commercial gauger and laboratory.

SUMMARY: Notice is hereby given, pursuant to CBP regulations, that Camin Cargo Control, Inc. (New Haven, CT) has been approved to gauge petroleum and certain petroleum products and accredited to test petroleum and certain petroleum products for customs purposes for the next four years as of November 6, 2019.

DATES: Camin Cargo Control, Inc. (New Haven, CT) was approved and accredited as a commercial gauger and laboratory as of November 6, 2019. The next inspection date will be scheduled for November 2023.

FOR FURTHER INFORMATION CONTACT: Robert P. Munivez, Laboratories and Scientific Services, U.S. Customs and Border Protection, 4150 Interwood South Parkway, Houston, TX 77032, tel. 281-560-2900.

SUPPLEMENTARY INFORMATION: Notice is hereby given pursuant to 19 CFR 151.12 and 19 CFR 151.13, that Camin Cargo Control, Inc., 31 Fulton Street, Unit A, New Haven, CT 06513, has been approved to gauge petroleum and certain petroleum products and accredited to test petroleum and certain petroleum products for customs purposes, in accordance with the provisions of 19 CFR 151.12 and 19 CFR 151.13 as of November 6, 2019.¹

¹ As a result of the SARS-CoV-2 (COVID-19) pandemic, Laboratories and Scientific Services implemented a one-time quadrennial timeframe for reoccurring audits originally scheduled to take place in 2020, 2021, and 2022. This postponed the scheduled deadline for audits and the payment of reaccreditation or reapproval fees by one year, after which audits will return to a triennial schedule. See 19 U.S.C. 1499; Presidential Proclamation 9994, 85 FR 15337 (March 13, 2020); Executive Order 13924, 85 FR 31353 (May 19, 2020); and U.S. Customs & Border Protection, COVID-19 Laboratory and Gauger Postponement Letter (May 26, 2021), https://www.cbp.gov/document/guidance/covid-19-gauger-postponement-letter.

Camin Cargo Control, Inc. (New Haven, CT) is approved for the following gauging procedures for petroleum and certain petroleum products from the American Petroleum Institute (API):

API chapters | Title
1 | Vocabulary.
3 | Tank Gauging.
7 | Temperature Determination.
8 | Sampling.
11 | Physical Properties Data.
12 | Calculations.
17 | Marine Measurement.

Camin Cargo Control, Inc. (New Haven, CT), is accredited for the following laboratory analysis procedures and methods for petroleum and certain petroleum products set forth by the U.S. Customs and Border Protection Laboratory Methods (CBPL) and American Society for Testing and Materials (ASTM):

CBPL No. | ASTM | Title
27-01 | D287 | Standard Test Method for API Gravity of Crude Petroleum and Petroleum Products.
27-08 | D86 | Standard Test Method for Distillation of Petroleum Products at Atmospheric Pressure.
27-11 | D445 | Standard Test Method for Kinematic Viscosity of Transparent and Opaque Liquids (and Calculation of Dynamic Viscosity).
27-13 | D4294 | Standard Test Method for Sulfur in Petroleum and Petroleum Products by Energy-Dispersive X-ray Fluorescence Spectrometry.
27-20 | D4057 | Standard Practice for Manual Sampling of Petroleum and Petroleum Products.
27-48 | D4052 | Standard Test Method for Density, Relative Density, and API Gravity of Liquids by Digital Density Meter.
27-50 | D93 | Standard Test Methods for Flash-Point by Pensky-Martens Closed Cup Tester.
27-53 | D2709 | Standard Test Method for Water and Sediment in Middle Distillate Fuels by Centrifuge.
27-54 | D1796 | Standard Test Method for Water and Sediment in Fuel Oils by the Centrifuge Method (Laboratory Procedure).
27-58 | D5191 | Standard Test Method For Vapor Pressure of Petroleum Products (Mini Method).
N/A | D97 | Standard Test Method for Pour Point of Petroleum Products.
N/A | D130 | Standard Test Method for Corrosiveness to Copper from Petroleum Products by Copper Strip Test.
N/A | D482 | Standard Test Method for Ash from Petroleum Products.
N/A | D524 | Standard Test Method for Ramsbottom Carbon Residue of Petroleum Products.
N/A | D1319 | Standard Test Method for Hydrocarbon Types in Liquid Petroleum Products by Fluorescent Indicator Adsorption.
N/A | D2500 | Standard Test Method for Cloud Point of Petroleum Products and Liquid Fuels.
N/A | D2624 | Standard Test Methods for Electrical Conductivity of Aviation and Distillate Fuels.
N/A | D3606 | Standard Test Method for Determination of Benzene and Toluene in Spark Ignition Fuels by Gas Chromatography.
N/A | D4815 | Standard Test Method for Determination of MTBE, ETBE, TAME, DIPE, tertiary-Amyl Alcohol and C1 to C4 Alcohols in Gasoline by Gas Chromatography.
N/A | D5599 | Standard Test Method for Determination of Oxygenates in Gasoline by Gas Chromatography and Oxygen Selective Flame Ionization Detection.
N/A | D5769 | Determination of Benzene, Toluene, and Total Aromatics in Finished Gasolines by Gas Chromatography/Mass Spectrometry.

Anyone wishing to employ this entity to conduct laboratory analyses and gauger services should request and receive written assurances from the entity that it is accredited or approved by the U.S. Customs and Border Protection to conduct the specific test or gauger service requested. Alternatively, inquiries regarding the specific tests or gauger services this entity is accredited or approved to perform may be directed to the U.S. Customs and Border Protection by calling (281) 560-2900. The inquiry may also be sent to CBPGaugersLabs@cbp.dhs.gov. Please reference the website listed below for a complete listing of CBP approved gaugers and accredited laboratories.

http://www.cbp.gov/about/labs-scientific/commercial-gaugers-and-laboratories.

James D. Sweet,
Laboratory Director, Houston, Laboratories and Scientific Services.

[FR Doc. 2023-20684 Filed 9-22-23; 8:45 am]

BILLING CODE 9111-14-P